SECURITIES AND EXCHANGE COMMISSION

[Release No. 34-42850; File No. SR-CBOE-00-06]

Self-Regulatory Organizations; Notice of Filing and Immediate Effectiveness of Proposed Rule Change by the Chicago Board Options Exchange, Incorporated Relating to Exchange Fees

May 30, 2000.

Pursuant to section 19(b)(1) of the Securities Exchange Act of 1934 (“Act”),¹ and Rule 19b-4 thereunder,² notice is hereby given that on March 3, 2000, the Chicago Board Options Exchange, Incorporated (“CBOE” or “Exchange”) filed with the Securities and Exchange Commission (“Commission” or “SEC”) the proposed rule change as described in Items I, II, and III below, which Items have been prepared by the CBOE. On April 12, 2000, the Exchange submitted Amendment No. 1 to the proposed rule change.³ The Commission is publishing this notice to solicit comments on the proposed rule change from interested persons.

¹ 15 U.S.C. 78s(b)(1).

² 17 CFR 240.19b-4.

³ In Amendment No. 1, the Exchange corrected the Schedule of Dues and Fees contained in Appendix A to reflect what the Exchange's fee schedule stated with respect to equity option customer order fees and trade match fees before the proposed rule change was filed. See Letter from Angelo Evangelou, Attorney, Legal Division, CBOE, to Jennifer Colihan, Attorney, Division of Market Regulation, SEC, dated April 11, 2000 (“Amendment No. 1”).

I. Self-Regulatory Organization's Statement of the Terms of Substance of the Proposed Rule Change

The Exchange proposes to make certain changes to its fee schedule. The text of the proposed rule change is available at the Office of the Secretary, CBOE and at the Commission.

II. Self-Regulatory Organization's Statement of the Purpose of, and Statutory Basis for, the Proposed Rule Change

In its filing with the Commission, the CBOE included statements concerning the purpose of and basis for the proposed rule change and discussed any comments it received on the proposed rule change. The text of these statements may be examined at the places specified in Item IV below. The CBOE has prepared summaries, set forth in sections A, B, and C below, of the most significant aspects of such statements.

A. Self-Regulatory Organization's Statement of the Purpose of and Statutory Basis for, the Proposed Rule Change

1. Purpose

The Exchange is proposing to rescind certain customer equity options fees. The foregoing fee changes are being implemented by the Exchange pursuant to CBOE Rule 2.22 and will be in effect as of March 1, 2000.

The Exchange proposes to rescind transaction fees for public customer equity option orders routed through CBOE's electronic Order Routing System (“ORS”). The Exchange further proposes to eliminate the trade match fee for public customer equity option orders routed through ORS. An overwhelming majority of CBOE customer orders are routed via ORS. The Exchange, therefore, believes this fee change will generate significant savings for its customers.

Manually executed public customer orders will retain the current $0.09 transaction fee and $0.05 trade match fee. Orders entered into ORS via the Exchange's Booth Entry and Routing System (BERS) after a manual execution will also be subject to the current $0.09 transaction fee and $0.05 trade match fee, and shall not be eligible for the fee reduction proposed herein.

2. Statutory Basis

The Exchange represents that the proposed rule change is consistent with section 6(b) ⁴ of the Act in general and furthers the objectives of section 6(b)(4) ⁵ in particular because it provides for the equitable allocation of reasonable dues, fees and other charges among CBOE members.

⁴ 15 U.S.C. 78f(b).

⁵ 15 U.S.C. 78f(b)(4).

B. Self-Regulatory Organization's Statement on Burden on Competition

The Exchange does not believe that the proposed rule change will impose any inappropriate or unnecessary burden on competition.

C. Self-Regulatory Organization's Statement on Comments on the Proposed Rule Change Received from Members, Participants, or Others

Written comments were neither solicited nor received with respect to the proposed rule change.

III. Date of Effectiveness of the Proposed Rule Change and Timing for Commission Action

The foregoing rule change establishes or changes a due, fee or charged imposed by the Exchange and, therefore, has become effective upon filing pursuant to Section 19(b)(3)(A) of the Act ⁶ and subparagraph (f)(2) of Rule 19b-4 ⁷ thereunder.⁸

⁶ 15 U.S.C. 78s(b)(3)(A).

At any time within 60 days of the filing of the proposed rule change, the Commission may summarily abrogate the rule change if it appears to the Commission that such action is necessary or appropriate in the public interest, for the protection of investors, or otherwise in furtherance of the purpose of the Act.⁷

⁷ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW, Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW, Washington, DC 20549. Copies of such filing will also be available for inspection and copying at the principal office of the CBOE.⁸

⁸ In reviewing this proposal, the Commission has considered its impact on efficiency, competition, and capital formation. 15 U.S.C. 78c(f).

All submissions should refer to the file number in the caption above and should be submitted by June 28, 2000.

For the Commission by the Division of Market Regulation, pursuant to delegated authority.⁹
⁹ 17 CFR 200.30-3(a)(12).
Margaret H. McFarland,
Deputy Secretary.

[FR Doc. 00-14260 Filed 6-6-00; 8:45 am]

BILLING CODE 8010-01-M